ENVIRONMENTAL PROTECTION AGENCY

[FRL-9133-8]

Proposed CERCLA Section 122(h) Cost Recovery Settlement for the Kentucky Avenue Wellfield Superfund Site, Town of Horseheads and Village of Horseheads, Chemung County, NY

AGENCY: Environmental Protection Agency.

ACTION: Notice; request for public comment.

SUMMARY: In accordance with section 122(i) of the Comprehensive Environmental Response, Compensation, and Liability Act of 1980, as amended (“CERCLA”), 42 U.S.C. 9622(i), notice is hereby given by the U.S. Environmental Protection Agency (“EPA”), Region II, of a proposed cost recovery settlement agreement pursuant to Section 122(h) of CERCLA, 42 U.S.C. 9622(h), with CBS Corporation (the “Settling Party”) for the Kentucky Avenue Wellfield Superfund Site (“Site”) in the Town of Horseheads and the Village of Horseheads in Chemung County, New York. The Settling Party agrees to pay EPA $82,000 in reimbursement of certain response costs related to the performance of the work incurred by EPA at the Site.

The settlement includes a covenant by EPA not to sue or to take administrative action against the settling party pursuant to sections 106 and 107(a) of CERCLA, 42 U.S.C. 9606 and 9607(a), with regard to the response costs related to the work enumerated in the settlement agreement which was performed at the Site. For thirty (30) days following the date of publication of this notice, EPA will receive written comments relating to the settlement. EPA will consider all comments received and may modify or withdraw its consent to the settlement if comments received disclose facts or considerations that indicate that the proposed settlement is inappropriate, improper or inadequate. EPA's response to any comments received will be available for public inspection at EPA Region II, 290 Broadway, New York, New York 10007-1866.

DATES: Comments must be submitted on or before May 5, 2010.

ADDRESSES: The proposed settlement is available for public inspection at EPA Region II offices at 290 Broadway, New York, New York 10007-1866. Comments should reference the Kentucky Avenue Wellfield Superfund Site, Town of Horseheads and the Village of Horseheads, Chemung County, New York, Index No. CERCLA-02-2010-2006. To request a copy of the proposed settlement agreement, please contact the EPA employee identified below.

FOR FURTHER INFORMATION CONTACT: Lauren Charney, Assistant Regional Counsel, New York/Caribbean Superfund Branch, Office of Regional Counsel, U.S. Environmental Protection Agency, 290 Broadway, 17th Floor, New York, New York 10007-1866. Telephone: 212-637-3181.

Dated: March 12, 2010.
Walter Mugdan,
Director, Emergency and Remedial Response Division, U.S. Environmental Protection Agency, Region 2.

[FR Doc. 2010-7625 Filed 4-2-10; 8:45 am]

BILLING CODE 6560-50-P